DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 8, 2001.

Interested persons are invited to submit written comments regarding the subject matter of the investigations to the Director, Division of Trade Adjustment Assistance, at the address shown below, not later than January 8, 2001.

The petitions filed in this case are available for inspection at the Office of the Director, Division of Trade Adjustment Assistance, Employment and Training Administration, U.S. Department of Labor, Room C-5311, 200 Constitution Avenue, NW., Washington, DC 20210.

Dated: Signed at Washington, DC this 11th day of December, 2000.
Edward A. Tomchick,
Trade Adjustment Assistance.

Appendix

Petitions Instituted on 12/11/2000
TA-W | Subject firm (petitioners) | Location | Date of petition | Product(s)
38,395 | Baxter Healthcare Corp. (Wrks) | Round Lake, IL | 11/16/2000 | Medical pumps.
38,396 | Philips Display Component (IBEW) | Ottawa, OH | 11/10/2000 | Color TV picture tubes.
38,397 | Owens-Brockway Glass (GMP) | Brockway, PA | 11/14/2000 | Glass containers.
38,398 | G.F. Wright Steel (Wrks) | Worcester, MA | 11/22/2000 | Woven hardware cloth.
38,399 | Reactive Metals and Alloy (Comp) | West Pittsburg, PA | 11/27/2000 | Metals and alloys.
38,400 | Potlatch Corp. (Wrks) | Cloquet, MN | 11/27/2000 | Wood products, paper board, tissue.
38,401 | Calibrated Charts Corp. (Wrks) | Batavia, NY | 11/27/2000 | Paper recording charts.
38,402 | Comp Air (Wrks) | Sidney, OH | 11/15/2000 | Air compressors and parts.
38,403 | ICI Explosives (Wrks) | Joplin, MO | 11/17/2000 | Ammonium nitrate.
38,404 | Lending Textile Co. (Comp) | Montgomery, PA | 11/17/2000 | Decorative textile trim.
38,405 | Cabot Performance (Wrks) | Boyertown, PA | 12/01/2000 | Tanalum wire.
38,406 | Philadelphia Gear Corp. (IAMAW) | King of Prussia, PA | 11/27/2000 | Power transmissions, speed reducers.
38,407 | Tower Automotive Prod. (DALU) | Milwaukee, WI | 11/22/2000 | Commercial truck rails.
38,408 | Williams Energy (Wrks) | Broomfield, MN | 11/28/2000 | Processing plant—oil and gas.
38,409 | Money's Foods US, Inc. (Comp) | Blandon, PA | 12/01/2000 | Grocery store.
38,410 | Editorial America (Wrks) | Miami, FL | 11/28/2000 | Spanish magazines.
38,411 | Enterprise Lumber (Comp) | Arlington, WA | 11/30/2000 | Lumber.
38,412 | Columbia Falls Aluminum (Comp) | Columbia Falls, MT | 11/21/2000 | Aluminum ingot.
38,413 | Binns Machinery Products (Comp) | Cincinnati, OH | 11/16/2000 | Roll lathes—steel mills.
38,414 | Villazon and Co., Inc. (Comp) | Tampa, FL | 12/04/2000 | Cigars—machine made.
38,415 | Remley and Co., Inc. (Comp) | Albion, NY | 11/30/2000 | Commercial lithography.
38,416 | Willamette Electric (Comp) | Portland, OR | 11/22/2000 | Automotive starters, alternators.
38,417 | Wing Industries, Inc. (Wrks) | Mt. Pleasant, TX | 11/27/2000 | Wooden door parts.
38,418 | Harbor Industries (Comp) | Traverse City, MI | 11/25/2000 | Point of purchase displays.
38,419 | John Campbell and Co. (Wrks) | Perkasie, PA | 11/29/2000 | Textile dyes.
38,420 | Apex Systems, Inc. (Comp) | Colorado Springs, CO | 11/28/2000 | Optical test media equipment.
38,421 | Wiscassett Mills Co. (Comp) | Kannapolis, NC | 11/29/2000 | Yarn.
38,422 | LTV Steel Corp. (USWA) | Aliquippa, PA | 11/22/2000 | Flat rolled coated products.
38,423 | US Steel Group (USWA) | Pittsburgh, PA | 11/22/2000 | Flat rolled coated products.

[FR Doc. 00-33070 Filed 12-27-00; 8:45 am]

BILLING CODE 4510-30-M